DEPARTMENT OF THE TREASURY

Office of Foreign Assets Control

31 CFR Parts 543, 546, and 547

Definition of the Term “Financial, Material, or Technological Support” Under the Côte d'Ivoire, Darfur, and Democratic Republic of the Congo Sanctions Regulations

AGENCY: Office of Foreign Assets Control, Treasury.

ACTION: Final rule.

SUMMARY: The Department of the Treasury's Office of Foreign Assets Control (“OFAC”) is amending the Côte d'Ivoire Sanctions Regulations, the Darfur Sanctions Regulations, and the Democratic Republic of the Congo Sanctions Regulations to add a definition of the term “financial, material, or technological support” as used in these regulations. Providing “financial, material, or technological support” for, inter alia, any person whose property and interests in property are blocked under those regulations constitutes one of the criteria for designation as a person whose property and interests in property are blocked.

DATES: Effective Date: February 8, 2012.

FOR FURTHER INFORMATION CONTACT: Assistant Director for Sanctions Compliance and Evaluation, tel.: (202) 622-2490, Assistant Director for Licensing, tel.: (202) 622-2480, Assistant Director for Policy, tel.: (202) 622-4855, Office of Foreign Assets Control, or Chief Counsel (Foreign Assets Control), tel.: (202) 622-2410, Office of the General Counsel, Department of the Treasury (not toll free numbers).

SUPPLEMENTARY INFORMATION:

Electronic and Facsimile Availability

This document and additional information concerning OFAC are available from OFAC's Web site (http://www.treasury.gov/ofac) or via facsimile through a 24-hour fax-on-demand service, tel.: (202) 622-0077.

Background

OFAC administers the Côte d'Ivoire Sanctions Regulations, 31 CFR part 543 (the “CDISR”), the Darfur Sanctions Regulations, 31 CFR part 546 (the “DSR”), and the Democratic Republic of the Congo Sanctions Regulations, 31 CFR part 547 (the “DRCSR”), which implement Executive Order 13396 of February 7, 2006, “Blocking Property of Certain Persons Contributing to the Conflict in Côte d'Ivoire” (71 FR 7389, February 10, 2006) (“E.O. 13396”), Executive Order 13400 of April 26, 2006, “Blocking Property of Persons in Connection With the Conflict in Sudan's Darfur Region” (71 FR 25483, May 1, 2006) (“E.O. 13400”), and Executive Order 13413 of October 27, 2006, “Blocking Property of Certain Persons Contributing to the Conflict in the Democratic Republic of the Congo” (71 FR 64105, October 31, 2006) (“E.O. 13413”), respectively.

Providing “financial, material, or technological support” for the activities described in paragraphs (a)(2)(i) through (a)(2)(iv) of section 543.201 of the CDISR, paragraphs (a)(2)(i) through (a)(2)(vi) of section 546.201 of the DSR, and paragraphs (a)(2)(i) through (a)(2)(v) of section 547.201 of the DRCSR, or for any person whose property and interests in property are blocked under these regulations, constitutes one of the criteria in these regulations for designation as a person whose property and interests in property are blocked.

In particular, paragraph (a)(2)(v) of section 543.201 of the CDISR implements section 1(a)(ii)(E) of E.O. 13396 by blocking the property and interests in property of persons determined by the Secretary of the Treasury, after consultation with the Secretary of State, to have materially assisted, sponsored, or provided financial, material, or technological support for, or goods or services in support of, the activities described in paragraphs (a)(2)(i) through (a)(2)(iv) of section 543.201 or any person whose property and interests in property are blocked pursuant to paragraph (a) of section 543.201.

Similarly, paragraph (a)(2)(vii) of section 546.201 of the DSR implements section 1(a)(ii)(G) of E.O. 13400 by blocking the property and interests in property of persons determined by the Secretary of the Treasury, after consultation with the Secretary of State, to have materially assisted, sponsored, or provided financial, material, or technological support for, or goods or services in support of, the activities described in paragraphs (a)(2)(i) through (a)(2)(vi) of section 546.201 or any person whose property and interests in property are blocked pursuant to paragraph (a) of section 546.201.

Finally, paragraph (a)(2)(vi) of section 547.201 of the DRCSR implements section 1(a)(ii)(F) of E.O. 13413 by blocking the property and interests in property of persons determined by the Secretary of the Treasury, after consultation with the Secretary of State, to have materially assisted, sponsored, or provided financial, material, or technological support for, or goods or services in support of, the activities described in paragraphs (a)(2)(i) through (a)(2)(v) of section 547.201 or any person whose property and interests in property are blocked pursuant to paragraph (a) of section 547.201.

OFAC today is amending the CDISR, the DSR, and the DRCSR, to define the term “financial, material, or technological support,” as used in these regulations. New sections 543.313 in subpart C of the CDISR, 546.313 in subpart C of the DSR, and 547.313 in subpart C of the DRCSR define the term “financial, material, or technological support” to mean any property, tangible or intangible, and include a list of specific examples.

Public Participation

Because the amendment of 31 CFR part 543, 31 CFR part 546, and 31 CFR part 547 involves a foreign affairs function, the provisions of Executive Order 12866 and the Administrative Procedure Act (5 U.S.C. 553), requiring notice of proposed rulemaking, opportunity for public participation, and delay in effective date, are inapplicable. Because no notice of proposed rulemaking is required for this rule, the Regulatory Flexibility Act (5 U.S.C. 601-612) does not apply.

Paperwork Reduction Act

The collections of information related to 31 CFR part 543, 31 CFR part 546, and 31 CFR part 547 are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects

31 CFR Part 543

Administrative practice and procedure, Banking, Banks, Blocking of assets, Côte d'Ivoire, Credit, Foreign trade, Penalties, Reporting and recordkeeping requirements, Securities, Services.

31 CFR Part 546

Administrative practice and procedure, Banking, Banks, Blocking of assets, Credit, Darfur, Penalties, Reporting and recordkeeping requirements, Securities, Services, Sudan.

31 CFR Part 547

Administrative practice and procedure, Banking, Banks, Blocking of assets, Credit, Democratic Republic of the Congo, Penalties, Reporting and recordkeeping requirements, Securities, Services.

For the reasons set forth in the preamble, the Department of the Treasury's Office of Foreign Assets Control amends 31 CFR parts 543, 546, and 547 as follows:

PART 543—CÔTE D'IVOIRE SANCTIONS REGULATIONS

1. The authority citation for part 543 is revised to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011 (50 U.S.C. 1705 note); E.O. 13396, 71 FR 7389, 3 CFR, 2006 Comp., p. 209.

Subpart C—General Definitions

2. Add new § 543.313 to subpart C to read as follows:

§ 543.313 Financial, material, or technological support.

The term financial, material, or technological support, as used in § 543.201(a)(2)(v) of this part, means any property, tangible or intangible, including but not limited to currency, financial instruments, securities, or any other transmission of value; weapons or related materiel; chemical or biological agents; explosives; false documentation or identification; communications equipment; computers; electronic or other devices or equipment; technologies; lodging; safe houses; facilities; vehicles or other means of transportation; or goods. “Technologies” as used in this definition means specific information necessary for the development, production, or use of a product, including related technical data such as blueprints, plans, diagrams, models, formulae, tables, engineering designs and specifications, manuals, or other recorded instructions.

PART 546—DARFUR SANCTIONS REGULATIONS

3. The authority citation for part 546 is revised to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011 (50 U.S.C. 1705 note); E.O. 13067, 62 FR 59989, 3 CFR, 1997 Comp., p. 230; E.O. 13400, 71 FR 25483, 3 CFR, 2006 Comp.,p. 220.

Subpart C—General Definitions

4. Add new § 546.313 to subpart C to read as follows:

§ 546.313 Financial, material, or technological support.

The term financial, material, or technological support, as used in § 546.201(a)(2)(vii) of this part, means any property, tangible or intangible, including but not limited to currency, financial instruments, securities, or any other transmission of value; weapons or related materiel; chemical or biological agents; explosives; false documentation or identification; communications equipment; computers; electronic or other devices or equipment; technologies; lodging; safe houses; facilities; vehicles or other means of transportation; or goods. “Technologies” as used in this definition means specific information necessary for the development, production, or use of a product, including related technical data such as blueprints, plans, diagrams, models, formulae, tables, engineering designs and specifications, manuals, or other recorded instructions.

PART 547—DEMOCRATIC REPUBLIC OF THE CONGO SANCTIONS REGULATIONS

5. The authority citation for part 547 is revised to read as follows:

Authority: 3 U.S.C. 301; 31 U.S.C. 321(b); 50 U.S.C. 1601-1651, 1701-1706; 22 U.S.C. 287c; Pub. L. 101-410, 104 Stat. 890 (28 U.S.C. 2461 note); Pub. L. 110-96, 121 Stat. 1011 (50 U.S.C. 1705 note); E.O. 13413, 71 FR 64105, 3 CFR, 2006 Comp., p. 247.

Subpart C—General Definitions

6. Add new § 547.313 to subpart C to read as follows:

§ 547.313 Financial, material, or technological support.

The term financial, material, or technological support, as used in § 547.201(a)(2)(vi) of this part, means any property, tangible or intangible, including but not limited to currency, financial instruments, securities, or any other transmission of value; weapons or related materiel; chemical or biological agents; explosives; false documentation or identification; communications equipment; computers; electronic or other devices or equipment; technologies; lodging; safe houses; facilities; vehicles or other means of transportation; or goods. “Technologies” as used in this definition means specific information necessary for the development, production, or use of a product, including related technical data such as blueprints, plans, diagrams, models, formulae, tables, engineering designs and specifications, manuals, or other recorded instructions.

Dated: January 24, 2012.
Adam J. Szubin,
Director, Office of Foreign Assets Control.

[FR Doc. 2012-2814 Filed 2-7-12; 8:45 am]

BILLING CODE 4810-AL-P